DEPARTMENT OF THE INTERIOR

Office of the Secretary

Meeting of the Secretarial Commission on Indian Trust Administration and Reform

AGENCY: Office of the Secretary, Interior.

ACTION: Notice of meeting.

SUMMARY: The Office of the Secretary is announcing that the Secretarial Commission on Indian Trust Administration and Reform (the Commission) will hold a public meeting on December 6 and 7, 2012. During the public meeting, the Commission will hear from invited speakers about: management and administration of probate and real estate services administered through compacts and contracts; management and administration of natural resources held in trust; and trust reform, including other trust models and the trust relationship. The meeting will allow the Commission to gain insights and perspectives from members of the public. The Commission will also be hosting a youth outreach session on the evening of December 6, 2012, on the University of Washington campus to meet with young adults and college students on their ideas and recommendations to improve performance and services to trust beneficiaries.

DATES: The Commission's public meeting will begin at 8 a.m. and end at 5 p.m. on December 6, and begin at 8 a.m. and end at 4 p.m. on December 7, 2012. Members of the public who wish to attend in person should respond by December 4, 2012, to: trustcommission@ios.doi.gov to ensure adequate meeting packets will be made available. Members of the public who wish to participate via teleconference and/or webinar should respond by December 4, 2012, to: trustcommission@ios.doi.gov and information on how to register will be provided; virtual participation is limited to 100 participants. The Commission's public youth outreach session will be held from 7 p.m. to 9 p.m. on December 6, 2012; additional information will be available at: http://www.doi.gov/cobell/commission/index.cfm.

ADDRESSES: The public meeting will be held at the Double Tree Suites by Hilton Hotel Seattle Airport, 18740 International Boulevard, Seattle, Washington 98188. We encourage you to respond to trustcommission@ios.doi.gov by December 4, 2012. The public youth outreach session will be held on the University of Washington campus; further information on the location will be available at http://www.doi.gov/cobell/commission/index.cfm.

FOR FURTHER INFORMATION CONTACT: The Designated Federal Official, Lizzie Marsters, Chief of Staff to the Deputy Secretary, Department of the Interior, 1849 C Street NW., Room 6118, Washington, DC 20240; or email to Lizzie_Marsters@ios.doi.gov.

SUPPLEMENTARY INFORMATION:

Background

The Secretarial Commission on Indian Trust Administration and Reform was established under Secretarial Order No. 3292, dated December 8, 2009. The Commission plays a key role in the Department's ongoing efforts to empower Indian nations and strengthen nation-to-nation relationships.

The Commission will complete a comprehensive evaluation of the Department's management and administration of the trust assets within a two-year period and offer recommendations to the Secretary of the Interior on how to improve in the future. The Commission will:

(1) Conduct a comprehensive evaluation of the Department's management and administration of the trust administration system;

(2) Review the Department's provision of services to trust beneficiaries;

(3) Review input from the public, interested parties, and trust beneficiaries, which should involve conducting a number of regional listening sessions;

(4) Consider the nature and scope of necessary audits of the Department's trust administration system;

(5) Recommend options to the Secretary to improve the Department's management and administration of the trust administration system based on information obtained from the Commission's activities, including whether any legislative or regulatory changes are necessary to permanently implement the improvements; and

(6) Consider the provisions of the American Indian Trust Fund Management Reform Act of 1994 providing for the termination of the Office of the Special Trustee for American Indians, and make recommendations to the Secretary regarding termination.

Meeting Details

On Thursday, December 6, 2012, and Friday, December 7, 2012, the Commission will hold a meeting open to the public. The following items will be on the agenda.

Thursday, December 6, 2012

• Invocation;

• Welcome, introductions, agenda review;

• Commission operations reports and decisions;

• Commission review and discussion of preliminary recommendations;

• Public observations and comments regarding Commission recommendations;

• Panel session regarding real estate and probate;

• Panel session regarding natural resource assets;

• Status update on settlement;

• Commissioner reflections and insights from the day; and

• Review of action items from the today's discussion.

On the evening of Thursday, December 6, 2012, the Commission will host a youth outreach session from at 7 p.m. to 9 p.m. on the University of Washington campus to meet with young adults and college students on their ideas and recommendations to improve performance and services to trust beneficiaries. For additional information please refer to http://www.doi.gov/cobell/commission/index.cfm.

Friday, December 7, 2012

• Invocation;

• Welcome, introductions, agenda review;

• Presentation and discussion from BIA Budget Office;

• Panel session regarding trust reform and administration;

• Public comment regarding Commission discussion thus far;

• Planning for 2013 meetings;

• Commission discussion of insights and conclusions from panel speakers and preliminary discussion of how to integrate ideas into draft recommendations;

• Review action items, meeting accomplishments; and

• Closing blessing, adjourn.

Written comments may be sent to the Designated Federal Official listed in the FOR FURTHER INFORMATION CONTACT section above. To review all related material on the Commission's work, please refer to http://www.doi.gov/cobell/commission/index.cfm. All meetings are open to the public.

Dated: November 5, 2012.
David J. Hayes,
Deputy Secretary.

[FR Doc. 2012-27595 Filed 11-13-12; 8:45 am]

BILLING CODE 4310-W7-P